DEPARTMENT OF TRANSPORTATION

Pipeline and Hazardous Materials Safety Administration

[Docket No.: PHMSA-2018-0096; Notice No. 2018-16]

Hazardous Materials: Public Meeting Notice for the 2020 Emergency Response Guidebook (ERG2020)

AGENCY: Pipeline and Hazardous Materials Safety Administration (PHMSA), DOT.

ACTION: Notice of public meeting.

SUMMARY: PHMSA's Office of Hazardous Materials Safety (OHMS) will hold a public meeting to solicit input on the development of the 2020 edition of the Emergency Response Guidebook (ERG2020). The meeting will take place on June 17, 2019, in Washington, DC.

PHMSA developed the United States version of the Emergency Response Guidebook (ERG) for use by emergency services personnel to provide guidance for initial response to hazardous materials transportation incidents. Since 1980, it has been PHMSA's goal that all public emergency response personnel (e.g., fire-fighting, police, and rescue squads) have free and immediate access to the ERG. To date, PHMSA has distributed more than 14.5 million copies of the ERG to emergency service agencies and developed free online resources and downloadable mobile applications to make the ERG more accessible. Since 1996, PHMSA, Transport Canada, and the Secretariat of Communication and Transport of Mexico have collaborated in development of the ERG, with interested parties from government and industry providing additional assistance, including Argentina's Chemical Information Center for Emergencies (CIQUIME). ERG2020 will be published in English, French, and Spanish and will increase public safety by providing consistent emergency response procedures for hazardous materials transportation incidents throughout North America.

During the meeting, PHMSA will respond to stakeholder requests for a public discussion of the methodology used to determine the appropriate response protective distances for poisonous vapors resulting from spills involving dangerous goods considered toxic by inhalation in the ERG2016 “Green Pages.” To pursue our objective of continually improving the ERG, PHMSA will solicit comments related to new methodologies and considerations for future editions of the ERG. Additionally, the meeting will include discussions on the outcomes of field experiments, ongoing research efforts to better understand environmental effects on airborne toxic gas concentrations, and updates to be published in the ERG2020.

Time and Location: The meeting will be held at the U.S. Department of Transportation Conference Center at 1200 New Jersey Ave. SE, Washington, DC 20590 on June 17, 2019, from 8:30 a.m. to 2:30 p.m. Eastern Standard Time.

Registration: DOT requests that attendees pre-register for this meeting by completing the form at https://www.surveymonkey.com/r/82Z6KYM.

Conference call-in and “live meeting” capability will be provided. Specific information about conference call-in and live meeting access will be posted, when available, at: https://www.phmsa.dot.gov/research-and-development/hazmat/rd-meetings-and-events.

DOT is committed to providing equal access for all Americans and ensuring that information is available in appropriate alternative formats to meet the requirements of persons who have a disability. If you require an alternative version of files provided or alternative accommodations, please contact PHMSA-Accessibility@dot.gov no later than June 3, 2019.

FOR FURTHER INFORMATION CONTACT: Ryan Vierling or Shante Goodall, Office of Hazardous Materials Safety, Pipeline and Hazardous Materials Safety Administration, U.S. Department of Transportation, Washington, DC. Telephone: (202) 366-4620 and (202) 366-4545. Email: ryan.vierling@dot.gov or shante.goodall.ctr@dot.gov.

Signed in Washington, DC, on May 2, 2019.
William S. Schoonover,
Associate Administrator for Hazardous Materials Safety.

[FR Doc. 2019-09299 Filed 5-6-19; 8:45 am]

BILLING CODE 4909-60-P